NATIONAL ARCHIVES AND RECORDS ADMINISTRATION

[NARA-2016-013]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by February 22, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road, College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Defense, National Geospatial-Intelligence Agency (DAA-0537-2015-0001, 1 item, 1 temporary item). Records include employee financial disclosure forms.

2. Department of Health and Human Services, Indian Health Service (DAA-0513-2016-0001, 1 item, 1 temporary item). Self-governance records to include case files relating to contract agreements allowing Indian Tribes to assume control of programs previously administered by the Federal government.

3. Department of Homeland Security, United States Citizenship and Immigration Services (DAA-0566-2015-0003, 6 items, 6 temporary items). Application, supporting materials, and annual updates for designation as an entity that may sponsor job-creating commercial enterprises that immigrant investors may finance.

4. Department of Homeland Security, Transportation Security Administration (DAA-0560-2014-0002, 3 items, 3 temporary items). Security personnel deployment records to include requests, a tracking database, and performance reports.

5. Department of Justice, Bureau of Prisons (DAA-0129-2015-0003, 1 item, 1 temporary item). Files of escaped inmates who are never recaptured.

6. Department of the Navy, United States Marine Corps (DAA-0127-2015-0009, 1 item, 1 temporary item). Master files of an electronic information system used to manage and disseminate digitized still pictures and video imagery for commands in the field.

7. Department of State, Bureau of Diplomatic Security (DAA-0059-2015-0008, 17 items, 16 temporary items). Records of the High Threat Programs Directorate, including program and agreement files, and routine case files. Proposed for permanent retention are high profile case files related to international incidents.

8. Department of Transportation, National Highway Traffic Safety Administration (DAA-0416-2012-0007, 1 item, 1 temporary item). Master files of an electronic information system tracking the status of state traffic safety projects.

9. Department of Transportation, Surface Transportation Board (DAA-0134-2013-0019, 1 item, 1 temporary item). Records relating to rail line abandonments.

10. Environmental Protection Agency, Agency-wide (DAA-0412-2013-0017, 6 items, 5 temporary items). Compliance and enforcement records including administrative hearing and judicial action case files, incomplete investigation files, legal opinions not related to mission activities, correspondence, and related materials. Proposed for permanent retention are significant compliance and enforcement records including landmark cases concerning environmental laws.

11. Environmental Protection Agency, Agency-wide (DAA-0412-2015-0004, 2 items, 1 temporary item). Chemical Information System records relating to import and export certifications, and related correspondence. Proposed for permanent retention are records about chemicals subject to regulation and actions taken on industry submissions relating to their manufacture and use.

12. Federal Communications Commission, Wireline Competition Bureau (DAA-0173-2016-0005, 2 items, 2 temporary items). Master files of an electronic information system containing information on nationwide study area boundaries of incumbent local exchange carriers for voice and broadband service, and summarized data posted to the agency Web site.

13. National Aeronautics and Space Administration, Agency-wide (DAA-0255-2015-0002, 2 items, 2 temporary items). Education awards activity records including applications, proposals, letters of recommendation, and criteria for significant and non-significant awards.

14. Peace Corps, Office of Volunteer Recruitment and Selection (DAA-0490-2014-0004, 6 items, 4 temporary items). Records of the Office of University and Domestic Partnerships, including routine working files, newsletters, and photographs. Proposed for permanent retention are founding and policy documents for educational opportunity programs for volunteers.

Dated: January 12, 2016.
Margaret Hawkins,
Director, Records Appraisal and Agency Assistance.

[FR Doc. 2016-01269 Filed 1-21-16; 8:45 am]

BILLING CODE 7515-01-P